DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing the name of a person whose property and interests in property have been unblocked and who has been removed from the SDN List.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://ofac.treasury.gov).

Notice of OFAC Actions

A. On April 27, 2023, OFAC determined that the property and interests in property subject to U.S. jurisdiction of the following persons are blocked under the relevant sanctions authority listed below.

Individuals

1. GOMEZ ARIAS, Luis Lorenzo, Portal Calimaya 662, Colonia Los Portales, Ciudad De Puerto Vallarta, Jalisco, Mexico; DOB 03 Feb 1970; Electoral Registry No. GMARLS70020314H800 (Mexico) (individual) [ILLICIT-DRUGS-EO14059].

Designated pursuant to section 1(b)(ii) of Executive Order 14059 of December 15, 2021, “Imposing Sanctions on Foreign Persons Involved in the Global Illicit Drug Trade,” 86 FR 71549 (December 17, 2021) (E.O. 14059) for being or having been a leader or official of JM Providers Office, S.A. de C.V. and Servicios Administrativos Fordtwoo, S.A. de C.V., persons sanctioned pursuant to E.O. 14059.

2. GONZALEZ VILLEGAS, Ian Jassiel, Calle Pedro Moreno 113, Colonia Toluquilla, San Pedro Tlaquepaque, Jalisco, Mexico; DOB 21 Apr 1981; POB Distrito Federal, Mexico; nationality Mexico; Gender Male; C.U.R.P. GOVI810421HDFNKN02 (Mexico) (individual) [ILLICIT-DRUGS-EO14059].

Designated pursuant to section 1(b)(iii) of E.O. 14059 for being owned, controlled, or directed by, or having acted or purported to act for or on behalf of, directly or indirectly, Corporativo Title I, S.A. de C.V., Corporativo TS Business Inc, S.A. de C.V., and TS Business Corporativo, S.A. de C.V., persons sanctioned pursuant to E.O. 14059.

3. LELO DE LARREA VENTIMILLA, Horacio Edmundo (a.k.a. LELO DE LA REA, Horacio), Calle 20 de Noviembre 390, Colonia del Toro, Puerto Vallarta, Jalisco 48296, Mexico; Valle Kino 179, Colonia Valle Dorado, Bahia de Banderas, Nayarit, Mexico; DOB 03 Oct 1973; POB Distrito Federal, Mexico; nationality Mexico; Gender Male; R.F.C. LEVH731003EP3 (Mexico); C.U.R.P. LEVH731003HDFLNR03 (Mexico) (individual) [ILLICIT-DRUGS-EO14059].

Designated pursuant to section 1(b)(iii) of E.O. 14059 for being owned, controlled, or directed by, or having acted or purported to act for or on behalf of, directly or indirectly, Cartel de Jalisco Nueva Generacion (CJNG) and Servicios Administrativos Fordtwoo, S.A. de C.V., persons sanctioned pursuant to E.O. 14059.

4. LUQUIN RODRIGUEZ, Brayan Moises, Calle Mezquitan 194, Barrio Santa Maria, Puerto Vallarta, Jalisco 48325, Mexico; Las Palmas 35, Colonia Nuevo Vallarta, Jarretaderas, Nayarit, Mexico; DOB 06 Nov 1992; POB Jalisco, Mexico; nationality Mexico; Gender Male; C.U.R.P. LURB921106HJCQDR01 (Mexico) (individual) [ILLICIT-DRUGS-EO14059].

Designated pursuant to section 1(b)(iii) of E.O. 14059 for being owned, controlled, or directed by, or having acted or purported to act for or on behalf of, directly or indirectly, CJNG and Servicios Administrativos Fordtwoo, S.A. de C.V., persons sanctioned pursuant to E.O. 14059.

5. PADILLA ZARATE, Clemente, Calle Pedro Moreno 113, Colonia Toluquilla, San Pedro Tlaquepaque, Jalisco, Mexico; Alvaro Obregon 993, oblatos, Guadalajara, Jalisco 44380, Mexico; Josefa Ortiz 568, Guadalajara, Jalisco 44380, Mexico; DOB 01 May 1978; POB Jalisco, Mexico; nationality Mexico; Gender Male; C.U.R.P. PAZC780501HJCDRL09 (Mexico) (individual) [ILLICIT-DRUGS-EO14059].

Designated pursuant to section 1(b)(ii) of E.O. 14059 for being or having been a leader or official of Corporativo Title I, S.A. de C.V., Corporativo TS Business Inc, S.A. de C.V., and TS Business Corporativo, S.A. de C.V., persons sanctioned pursuant to E.O. 14059.

6. PARDO ESPINO, Eduardo, Privada Coyules 113, Barrio Santa Maria, Puerto Vallarta, Jalisco, Mexico; DOB 04 Apr 1979; POB Tinguindin, Michoacan de Ocampo, Mexico; nationality Mexico; Gender Male; C.U.R.P. PAEE790404HMNRSD00 (Mexico) (individual) [ILLICIT-DRUGS-EO14059].

Designated pursuant to section 1(a)(i) of E.O. 14059 for having engaged in, or attempted to engage in, activities or transactions that have materially contributed to, or pose a significant risk of materially contributing to, the international proliferation of illicit drugs or their means of production. Also designated pursuant to section 1(b)(iii) of E.O. 14059 for being owned, controlled, or directed by, or having acted or purported to act for or on behalf of, directly or indirectly, CJNG and Servicios Administrativos Fordtwoo, S.A. de C.V., persons sanctioned pursuant to E.O. 14059.

7. RIVAS SANCHEZ, Pedro, Calle Isla Antigua 3017, Colonia Jardines De La Cruz, Guadalajara, Jalisco, Mexico; DOB 08 Mar 1988; POB Jalisco, Mexico; Gender Male; C.U.R.P. RISP880308HJCVND03 (Mexico) (individual) [ILLICIT-DRUGS-EO14059].

Designated pursuant to section 1(b)(ii) of E.O. 14059 for being or having been a leader or official of Corporativo TS Business Inc, S.A. de C.V. and TS Business Corporativo, S.A. de C.V., persons sanctioned pursuant to E.O. 14059.

Entities

1. AKA INTEGRAL SERVICES, S. DE R.L. DE C.V., Bahia de Banderas, Nayarit, Mexico; Organization Established Date 03 Mar 2012; Organization Type: Construction of buildings; Folio Mercantil No. 1596 (Mexico) [ILLICIT-DRUGS-EO14059].

Designated pursuant to section 1(b)(iii) of E.O. 14059 for being owned, controlled, or directed by, or having acted or purported to act for or on behalf of, directly or indirectly, Horacio Edmundo Lelo de Larrea Ventimilla, a person sanctioned pursuant to E.O. 14059.

2. ASESORES Y PROMOTORES ACG, S.A. DE C.V., Guadalajara, Jalisco, Mexico; Organization Established Date 17 Sep 2015; Organization Type: Other business support service activities n.e.c.; Folio Mercantil No. 92430 (Mexico) [ILLICIT-DRUGS-EO14059].

Designated pursuant to section 1(b)(iii) of E.O. 14059 for being owned, controlled, or directed by, or having acted or purported to act for or on behalf of, directly or indirectly, Pedro Rivas Sanchez, a person sanctioned pursuant to E.O. 14059.

3. ATLANTIC DIAMOND GROUP, S.A. DE C.V., Bucerias, Nayarit, Mexico; Organization Established Date 13 Nov 2015; Organization Type: Real estate activities with own or leased property; Folio Mercantil No. 2106 (Mexico) [ILLICIT-DRUGS-EO14059].

Designated pursuant to section 1(b)(iii) of E.O. 14059 for being owned, controlled, or directed by, or having acted or purported to act for or on behalf of, directly or indirectly, Luis Lorenzo Gomez Arias, a person sanctioned pursuant to E.O. 14059.

4. BESTHINGS, S.A. DE C.V., Cancun, Quintana Roo, Mexico; Organization Established Date 26 Jul 2018; Organization Type: Travel agency activities; R.F.C. BES180726LM7 (Mexico); Folio Mercantil No. N-2018063459 (Mexico) [ILLICIT-DRUGS-EO14059].

Designated pursuant to section 1(b)(iii) of E.O. 14059 for being owned, controlled, or directed by, or having acted or purported to act for or on behalf of, directly or indirectly, Eduardo Pardo Espino, a person sanctioned pursuant to E.O. 14059.

5. BUSSINES CORPORATIVO T SERVICE INC, S.A. DE C.V., Josefa Ortiz 568, Guadalajara, Jalisco, Mexico; Organization Established Date 09 Sep 2014; Organization Type: Real estate activities with own or leased property; Folio Mercantil No. 85029 (Mexico) [ILLICIT-DRUGS-EO14059].

Designated pursuant to section 1(b)(iii) of E.O. 14059 for being owned, controlled, or directed by, or having acted or purported to act for or on behalf of, directly or indirectly, Ian Jassiel Gonzalez Villegas, a person sanctioned pursuant to E.O. 14059.

6. CONSTRUCTORES B2, S.A. DE C.V., Guadalajara, Jalisco, Mexico; Organization Established Date 05 Dec 2014; Organization Type: Other business support service activities n.e.c.; Folio Mercantil No. 86548 (Mexico) [ILLICIT-DRUGS-EO14059].

Designated pursuant to section 1(b)(iii) of E.O. 14059 for being owned, controlled, or directed by, or having acted or purported to act for or on behalf of, directly or indirectly, Clemente Padilla Zarate, a person sanctioned pursuant to E.O. 14059.

7. CORPORATIVO BUSSINES MX INSIDER, S.A. DE C.V., Guadalajara, Jalisco, Mexico; Organization Established Date 02 Dec 2014; Organization Type: Real estate activities with own or leased property; Folio Mercantil No. 86132 (Mexico) [ILLICIT-DRUGS-EO14059].

Designated pursuant to section 1(b)(iii) of E.O. 14059 for being owned, controlled, or directed by, or having acted or purported to act for or on behalf of, directly or indirectly, Clemente Padilla Zarate and Ian Jassiel Gonzalez Villegas, persons sanctioned pursuant to E.O. 14059.

8. CORPORATIVO SOPORTE LEGAL RECOVERY, S.A. DE C.V., Guadalajara, Jalisco, Mexico; Organization Established Date 23 Oct 2014; Organization Type: Other business support service activities n.e.c.; Folio Mercantil No. 85329 (Mexico) [ILLICIT-DRUGS-EO14059].

Designated pursuant to section 1(b)(iii) of E.O. 14059 for being owned, controlled, or directed by, or having acted or purported to act for or on behalf of, directly or indirectly, Ian Jassiel Gonzalez Villegas, a person sanctioned pursuant to E.O. 14059.

9. ENVIGH, S. DE R.L. DE C.V., Bahia de Banderas, Nayarit, Mexico; Organization Established Date 19 Jun 2019; Organization Type: Real estate activities on a fee or contract basis [ILLICIT-DRUGS-EO14059].

Designated pursuant to section 1(b)(iii) of E.O. 14059 for being owned, controlled, or directed by, or having acted or purported to act for or on behalf of, directly or indirectly, Horacio Edmundo Lelo de Larrea Ventimilla, a person sanctioned pursuant to E.O. 14059.

10. MAGNISERVIA, S.A. DE C.V., Puerto Vallarta, Jalisco, Mexico; Organization Established Date 10 Jun 2014; Organization Type: Other business support service activities n.e.c.; Folio Mercantil No. 16557 (Mexico) [ILLICIT-DRUGS-EO14059].

Designated pursuant to section 1(b)(iii) of E.O. 14059 for being owned, controlled, or directed by, or to have acted or purported to act for or on behalf of, directly or indirectly, CJNG, a person sanctioned pursuant to E.O. 14059.

11. NT INSURANCE CORPORATIVO, S.A. DE C.V., Guadalajara, Jalisco, Mexico; Organization Established Date 07 Nov 2014; Organization Type: Real estate activities with own or leased property; Folio Mercantil No. 85324 (Mexico) [ILLICIT-DRUGS-EO14059].

Designated pursuant to section 1(b)(iii) of E.O. 14059 for being owned, controlled, or directed by, or having acted or purported to act for or on behalf of, directly or indirectly, Ian Jassiel Gonzalez Villegas, a person sanctioned pursuant to E.O. 14059.

12. PRODUZIONI PECA, S. DE R.L. DE C.V., Guadalajara, Jalisco, Mexico; Organization Established Date 25 Jun 2019; Organization Type: Non-specialized wholesale trade; R.F.C. PPE190625B5A (Mexico); Folio Mercantil No. N-2019080180 (Mexico) [ILLICIT-DRUGS-EO14059].

Designated pursuant to section 1(b)(iii) of E.O. 14059 for being owned, controlled, or directed by, or having acted or purported to act for or on behalf of, directly or indirectly, Eduardo Pardo Espino, a person sanctioned pursuant to E.O. 14059.

13. RESGUARDO DE VALORES Y SERVICIOS INTEGRALES RSVI, S.A. DE C.V., Guadalajara, Jalisco, Mexico; Organization Established Date 23 Sep 2015; Organization Type: Travel agency activities; Folio Mercantil No. 92484 (Mexico) [ILLICIT-DRUGS-EO14059].

Designated pursuant to section 1(b)(iii) of E.O. 14059 for being owned, controlled, or directed by, or having acted or purported to act for or on behalf of, directly or indirectly, Pedro Rivas Sanchez, a person sanctioned pursuant to E.O. 14059.

14. RH LITMAN, S. DE R.L. DE C.V., Guadalajara, Jalisco, Mexico; Organization Established Date 11 Jun 2019; Organization Type: Other business support service activities n.e.c.; Folio Mercantil No. N-2019055144 (Mexico) [ILLICIT-DRUGS-EO14059].

Designated pursuant to section 1(b)(iii) of E.O. 14059 for being owned, controlled, or directed by, or having acted or purported to act for or on behalf of, directly or indirectly, Eduardo Pardo Espino, a person sanctioned pursuant to E.O. 14059.

15. SERVICIOS ADMINISTRATIVOS DANTWOO, S.A. DE C.V., Bahia de Banderas, Nayarit, Mexico; Organization Established Date 26 Mar 2013; Organization Type: Other business support service activities n.e.c.; Folio Mercantil No. 1723 (Mexico) [ILLICIT-DRUGS-EO14059].

Designated pursuant to section 1(b)(iii) of E.O. 14059 for being owned, controlled, or directed by, or having acted or purported to act for or on behalf of, directly or indirectly, Eduardo Pardo Espino, a person sanctioned pursuant to E.O. 14059.

16. SOCIEDAD SPA PENINSULA, S. DE R.L. DE C.V., Francisco Medina Ascencio No.2485, Zona Hotelera Norte, Puerto Vallarta, Jalisco 48333, Mexico; Guadalajara, Jalisco, Mexico; Organization Established Date 11 May 2007; Organization Type: Hairdressing and other beauty treatment; Folio Mercantil No. 40733 (Mexico) [ILLICIT-DRUGS-EO14059].

Designated pursuant to section 1(b)(iii) of E.O. 14059 for being owned, controlled, or directed by, or having acted or purported to act for or on behalf of, directly or indirectly, Eduardo Pardo Espino, a person sanctioned pursuant to E.O. 14059.

17. SUNCAN MEXICO, S. DE R.L. DE C.V., Bahia de Banderas, Nayarit, Mexico; Organization Established Date 19 Jun 2019; Organization Type: Real estate activities on a fee or contract basis [ILLICIT-DRUGS-EO14059].

Designated pursuant to section 1(b)(iii) of E.O. 14059 for being owned, controlled, or directed by, or having acted or purported to act for or on behalf of, directly or indirectly, Horacio Edmundo Lelo de Larrea Ventimilla, a person sanctioned pursuant to E.O. 14059.

18. T SERVICE BUSSINES INC, S.A. DE C.V., Guadalajara, Jalisco, Mexico; Organization Established Date 09 Sep 2014; Organization Type: Other business support service activities n.e.c.; Folio Mercantil No. 85498 (Mexico) [ILLICIT-DRUGS-EO14059].

Designated pursuant to section 1(b)(iii) of E.O. 14059 for being owned, controlled, or directed by, or having acted or purported to act for or on behalf of, directly or indirectly, Ian Jassiel Gonzalez Villegas, a person sanctioned pursuant to E.O. 14059.

19. TRADOS COMERCIO, S. DE R.L. DE C.V., Bahia de Banderas, Nayarit, Mexico; Organization Established Date 19 Jun 2019; Organization Type: Construction of buildings; Folio Mercantil No. N-2019051660 (Mexico) [ILLICIT-DRUGS-EO14059].

Designated pursuant to section 1(b)(iii) of E.O. 14059 for being owned, controlled, or directed by, or having acted or purported to act for or on behalf of, directly or indirectly, Horacio Edmundo Lelo de Larrea Ventimilla, a person sanctioned pursuant to E.O. 14059.

B. On April 27, 2023, OFAC determined that circumstances no longer warrant the inclusion of the following person on the SDN List and that their property and interests in property are no longer blocked under E.O. 14059.

1. MORENO LOPEZ, Ervin Rene, Canton La Candelaria Z.0, La Democracia, Huehuetenango, Guatemala; DOB 26 Jan 1976; POB Guatemala; nationality Guatemala; Gender Male; NIT # 1654613K (Guatemala); C.U.I. 1596467901301 (Guatemala) (individual) [ILLICIT-DRUGS-EO14059].

Dated: April 27, 2023.
Andrea M. Gacki,
Director, Office of Foreign Assets Control, U.S. Department of the Treasury.

[FR Doc. 2023-09294 Filed 5-1-23; 8:45 am]

BILLING CODE 4810-AL-P